GENERAL SERVICES ADMINISTRATION

[Notice-FAS-2012-01; Docket No: 2012-0002; Sequence 4]

Federal Travel Regulation; GSA E-Gov Travel Service (ETS) Transition to E-Gov Travel Service 2 (ETS2)

AGENCY: Federal Acquisition Service (FAS), General Services Administration (GSA).

ACTION: Notice of a bulletin.

SUMMARY: The attached bulletin announces GSA ETS Transition to ETS2.

DATES: Effective Date: This bulletin is effective the date of publication.

FOR FURTHER INFORMATION CONTACT: Contact Mr. Frank Robinson, ETS Program Manager Center for Travel Management (QMCD), Office of Travel and Transportation Services (QMC), at frank.robinson@gsa.gov or (703) 605-2151.

SUPPLEMENTARY INFORMATION: The Federal Travel Regulation (FTR) Part 301-73 requires all agencies to deploy and implement an ETS. This requirement extends to ETS2. Agencies should begin making plans to transition from ETS to ETS2 during FY12, and must execute a Memorandum of Understanding (MOU) for full deployment of ETS2 with the GSA no later than March 30, 2012.

Dated: January 25, 2012.
Steven Kempf,
Commissioner, Federal Acquisition Service, U.S. General Services Administration.

January 25, 2012

General Services Administration

Washington, DC 22202

E-GOV TRAVEL SERVICE

GSA Bulletin ETS 12-01

TO: Heads of Federal Agencies

SUBJECT: GSA E-Gov Travel Service (ETS) Transition to ETS2

1. What is the purpose of this bulletin?

The Federal Travel Regulation (FTR) Part 301-73 requires all agencies to deploy and implement an E-Gov Travel Service (ETS). ETS is a Governmentwide, web-based, end-to-end travel management service administered by General Services Administration (GSA), Federal Acquisition Service (FAS). This requirement extends to E-Gov Travel Service 2 (ETS2) when it becomes available in Fiscal Year 2012 (FY12). The Department of Defense (DoD) is not subject to this FTR requirement but may choose to participate in ETS2.

2. What is the background of this bulletin?

The ETS Master Contracts expire on November 11, 2013, and GSA plans to award the next generation ETS2 to build on the investment and benefits achieved with ETS. ETS2 will focus on the Administration's principles of strategic sourcing, data-driven transparency, standardization, consolidation, sustainability, and cost reduction. ETS2 is a 15-year Master Contract (3-year base period and three 4-year option periods), with Task Orders at the agency level. Key transition dates are included below:

Date | Event | Agency impact
April 2012 | Anticipated ETS2 award | Begin Task Order process.
November 2013 | ETS Master Contracts end; anticipated ETS contract extensions are available in the event transition to ETS2 is not complete | Under anticipated ETS extensions, transaction fees increase as transaction volumes decrease.
November 2014 | Anticipated ETS Extension Base Period ends | Transaction fees increase.
November 2015 | Anticipated ETS Extension Option Period ends | ETS is no longer available.

It is important for agencies to begin now to prepare for transition from ETS to ETS2.

3. How should agencies prepare?

Agencies should begin making plans to transition from ETS to ETS2 during FY12, and must execute a Memorandum of Understanding (MOU) for full deployment of ETS2 with the GSA no later than March 30, 2012. The MOU will identify key points of contact, including the agency's senior level official responsible for developing and implementing policies and controls to ensure efficient spending on travel, the ETS2 transition manager and transition team members. The MOU will also outline the agency's ETS2 transition plan that provides resources to achieve the following milestone dates:

A. Task Order awarded, negotiated and executed.

B. ETS2 Configuration, Data Loading and Systems Integration completed.

C. Initial Launch/Roll-out begins.

D. ETS2 is fully deployed; ETS task order closed.

An MOU template will be available within 15 business days of the date of this Bulletin.

Agencies are urged to aggressively pursue transition to ETS2, as anticipated contract extensions will have significantly higher transaction fees for agencies that use them. The GSA Center for Travel Management will assist agencies as they transition to ETS2.

4. Whom should I call for further information?

For further information, please contact Mr. Frank Robinson, ETS Program Manager Center for Travel Management (QMCD), Office of Travel and Transportation Services (QMC), Federal Acquisition Service, U. S. General Services Administration at frank.robinson@gsa.gov or (703) 605-2151.

Steven Kempf,

Commissioner, Federal Acquisition Service, U.S. General Services Administration.

[FR Doc. 2012-2325 Filed 2-1-12; 8:45 am]

BILLING CODE 6820-89-P